Memorandum of January 13, 2017

Continuing To Expand Opportunity for All Young People

Memorandum for the Heads of Executive Departments and Agencies

By the authority vested in me as President by the Constitution and the laws of the United States of America, I hereby direct the following:

Section 1. The Presidential Memorandum issued on February 27, 2014 (Creating and Expanding Ladders of Opportunity for Boys and Young Men of Color), is amended:

(a) in the preamble, by striking the phrase “My Brother's Keeper initiative” and replacing it with “Task Force on Improving the Lives of Boys and Young Men of Color and Underserved Youth”;

(b) in the preamble, by striking the phrase “The initiative” and replacing it with “The Task Force”;

(c) in section 1, by striking the phrase “My Brother's Keeper Task Force” throughout and replacing it with “Task Force on Improving the Lives of Boys and Young Men of Color and Underserved Youth”;

(d) in section 1(a), by striking everything that follows “In addition to the Chair, the Task Force shall consist of the following members:” in subsection (a) and inserting the following:

“(i) the Attorney General;

(ii) the Secretary of Agriculture;

(iii) the Secretary of Commerce;

(iv) the Secretary of Defense;

(v) the Secretary of Education;

(vi) the Secretary of Energy;

(vii) the Secretary of Health and Human Services;

(viii) the Secretary of Housing and Urban Development;

(ix) the Secretary of the Interior;

(x) the Secretary of Labor;

(xi) the Secretary of Transportation;

(xii) the Director of the Office of Management and Budget;

(xiii) the Chair of the Council of Economic Advisers;

(xiv) the Director of the Office of Personnel Management;

(xv) the Administrator of the Small Business Administration;

(xvi) the Chair of the Equal Employment Opportunity Commission;

(xvii) the Chief Executive Officer of the Corporation for National and Community Service;

(xviii) the Director of the National Science Foundation;

(xix) the Assistant to the President for Intergovernmental Affairs and Public Engagement;

(xx) the Director of the Domestic Policy Council;

(xxi) the Director of the National Economic Council;

(xxii) the Director of the Office of Science and Technology Policy; and

(xxiii) the heads of such other executive departments, agencies, and offices as the Chair may, from time to time, designate.”;

(e) in section 2(a)(i), by inserting “as appropriate” after “to be maintained by the Department of Education”;

(f) in section 2(a)(i), by inserting “and in consultation with the Office of Management and Budget, including the Office of the Chief Statistician of the United States, as appropriate” after “on an ongoing basis”;

(g) by adding, as section 2(f): “The Task Force shall also provide a status report to the President regarding the implementation of this memorandum at least once each calendar year. In addition, every 2 years, the Task Force shall review the recommendations from the 90-day report, determine whether updated recommendations should be sent to the President, and evaluate whether the set of critical indicators of life outcomes should be updated.”; and

(h) in section 2(v) and section 2(vii), by inserting “and underserved youth” after “boys and young men of color”.

Sec. 2. The Secretary of Education is authorized and directed to publish this memorandum in the Federal Register.

THE WHITE HOUSE,

Washington, January 13, 2017

[FR Doc. 2017-01492

Filed 1-18-17; 11:15 am]

Billing code 4000-01-P